NUCLEAR REGULATORY COMMISSION

Advisory Committee on Reactor Safeguards Subcommittee Meeting on Thermal-Hydraulic Phenomena (GSI-189); Revised

The starting time for the ACRS Subcommittee meeting on Thermal-Hydraulic Phenomena (GSI-189) scheduled for November 5, 2002, Room T-2B3, 11545 Rockville Pike, Rockville, Maryland has been changed from 8:30 a.m. to 1:30 p.m.

For further information contact: Ms. Maggalean W. Weston (telephone 301-415-3151) between 7:30 a.m. and 5:00 p.m. (EDT).

Dated: October 18, 2002.
Howard J. Larson,
Acting Associate Director for Technical Support, ACRS/ACNW.

[FR Doc. 02-27336 Filed 10-25-02; 8:45 am]

BILLING CODE 7590-01-P